DEPARTMENT OF THE INTERIOR

Bureau of Land Management

[BLM_NV_FRN_MO4500174054]

Notice of Intent To Amend the Resource Management Plan and Prepare an Associated Programmatic Environmental Impact Statement for the Esmeralda Solar Projects, Esmeralda County, Nevada

AGENCY: Bureau of Land Management, Interior.

ACTION: Notice of intent.

SUMMARY: In compliance with the National Environmental Policy Act of 1969, as amended (NEPA), and the Federal Land Policy and Management Act of 1976, as amended (FLPMA), the Bureau of Land Management (BLM) Nevada State Director intends to prepare a Resource Management Plan (RMP) amendment with an associated Programmatic Environmental Impact Statement (PEIS) for public lands in Esmeralda County, Nevada, and by this notice is announcing the beginning of the scoping period to solicit public comments and identify issues, providing the planning criteria for public review, and announcing a comment period of 30 days.

DATES: The BLM requests that the public submit comments concerning the scope of the analysis, potential alternatives, and identification of relevant information and studies by December 13, 2023. To afford the BLM the opportunity to consider issues raised by commenters in the Draft RMP Amendment/PEIS, please ensure your comments are received prior to the close of the 30-day scoping period or 15 days after the last public meeting, whichever is later.

ADDRESSES: You may submit comments on issues and planning criteria related to the RMP Amendment and associated PEIS by any of the following methods:

• https://eplanning.blm.gov/eplanning-ui/project/2020804/510.

• Email: ghelseth@blm.gov.

• Fax: 775-482-7810.

• Mail: BLM, Tonopah Field Office, P.O. Box 911,1553 South Main Street, Tonopah, NV 89049.

Documents pertinent to this proposal may be examined online at https://eplanning.blm.gov/eplanning-ui/project/2020804/510.

FOR FURTHER INFORMATION CONTACT: For further information and/or to have your name added to the mailing list, send requests to: Perry B. Wickham, Field Manager, at telephone (775) 482-7801; address P.O. Box 911, 1553 South Main Street, Tonopah, NV 89049; or email pwickham@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This document provides notice that the BLM Nevada State Director intends to prepare an RMP amendment with an associated PEIS for the Esmeralda Solar Projects in Esmeralda County, Nevada, announces the beginning of the scoping process, and seeks public input on issues and planning criteria. The RMP amendment would change the existing 1997 Tonopah Field Office Record of Decision and Approved RMP. The RMP amendment is being considered in order to change the management direction for visual resources and slope in order to allow for the consideration of the proposed solar development projects.

The planning area is in Esmeralda County, Nevada, and encompasses approximately 118,630.90 acres of public land.

Purpose and Need

The BLM's purpose for this Federal action is to respond to the solar project FLPMA right-of-way applications submitted under Title V of FLPMA (43 U.S.C. 1761) and to amend the visual and slope management direction in the Tonopah RMP in compliance with the FLPMA BLM right-of-way regulations (43 Code of Federal Regulations (CFR) 2800) and other applicable Federal and State laws and policies. In accordance with FLPMA, there is a need to consider the long-term needs of future generations for renewable and non-renewable resources in the context of the multiple resource objectives in the Tonopah RMP planning area.

Preliminary Alternatives

Under the No Action alternative, the BLM would not amend the visual and slope management direction in the Tonopah RMP and would not consider design features for use in solar development projects in the planning area. Under the proposed action alternative, the BLM would change the visual and slope management direction in the Tonopah RMP Amendment and consider design features for use in future analyses of the individual solar projects in the planning area. The BLM welcomes comments and suggestions for additional alternatives.

Planning Criteria

The planning criteria guide the planning effort and lay the groundwork for effects analysis by identifying the preliminary issues and their analytical frameworks. The planning criteria are available for public review and comment at the ePlanning website (see ADDRESSES).

Summary of Expected Impacts

Through this RMP Amendment and PEIS, the BLM would change the visual and slope management direction in the Tonopah RMP Amendment and consider best management practices for use in future analyses of the individual projects. Prior to implementation of the individual solar projects, site-specific NEPA analysis would be required. Preliminary issues for the planning area have been identified by BLM personnel and from feedback received during early engagement conducted for this planning effort with Federal, State, and local agencies; Tribes; and stakeholders. The PEIS will analyze the effects of the proposed changes in RMP management direction, the cumulative effects of the seven proposed solar projects, and the implementation of design features on:

• Air Resources

• Biological Resources

• Cultural and Native American Concerns

• Hydrologic Resources

• Socioeconomics and Environmental Justice

• Visual Resources

Schedule for the Decision-Making Process

The BLM will provide additional opportunities for public participation consistent with the NEPA and land use planning processes, including a 90-day comment period on the Draft RMP Amendment/PEIS and concurrent 30-day public protest period and 60-day Governor's consistency review on the Proposed RMP Amendment. The Draft RMP Amendment/PEIS is anticipated to be available for public review in the winter of 2024 and the Proposed RMP Amendment/Final PEIS is anticipated to be available for public protest in the summer of 2024 with an Approved RMP Amendment and Record of Decision in late December 2024.

Public Scoping Process

Two virtual public meetings will be held. The dates of the meetings and information on how to participate will be announced at least 15 days in advance through the ePlanning page (see ADDRESSES) and applicable local newspapers.

This notice of intent initiates the scoping period and public review of the planning criteria, which guide the development and analysis of the Draft RMP Amendment/PEIS.

Through the scoping process the BLM is requesting input on the scope of the environmental analysis, alternatives that should be considered, issues that should be analyzed, measures to minimize and/or avoid adverse environmental impacts, and any other information relevant to the proposed area of effect.

Lead and Cooperating Agencies

The BLM Battle Mountain District Office is the lead agency for this RMP Amendment and PEIS. The BLM has initially identified the following agencies and organizations as potential cooperating agencies: Bureau of Indian Affairs, Department of the Air Force, Department of Defense, National Park Service, U.S. Environmental Protection Agency Region 9, U.S. Fish and Wildlife Service, U.S. Forest Service, Nevada Department of Transportation, Nevada Department of Wildlife, Nevada Division of Environmental Protection, Nevada Division of Minerals, Nevada Division of State Lands, Nevada State Historic Preservation Office, Esmeralda County, and Nye County. Additional agencies and organizations may be identified as potential cooperating agencies to participate in the environmental analysis for the RMP Amendment/PEIS.

Responsible Official

The Nevada State Director is the deciding official for this planning effort.

Nature of Decision To Be Made

The nature of the decision to be made will be the Nevada State Director's selection of land use planning decisions for managing BLM-administered lands under the principles of multiple use and sustained yield in a manner that best addresses the purpose and need.

Interdisciplinary Team

The BLM will use an interdisciplinary approach to develop the plan amendment in order to consider the variety of resource issues and concerns identified. Specialists with expertise in the following disciplines will be involved in this planning effort: geology and soils, vegetation and noxious and invasive species, wildlife, hydrology, air quality, minerals, paleontology, visual resources, cultural resources, socioeconomics, public health and safety, land use and recreation, special designations, and others deemed necessary based on the results of the scoping process.

Additional Information

The BLM will identify, analyze, and consider mitigation to address the reasonably foreseeable impacts to resources from the proposed plan amendment and all analyzed reasonable alternatives and, in accordance with 40 CFR 1502.14(e), include appropriate mitigation measures not already included in the proposed plan amendment or alternatives. Mitigation may include avoidance, minimization, rectification, reduction or elimination over time, and compensation; and may be considered at multiple scales, including the landscape scale.

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan will assist the BLM in identifying and evaluating impacts to such resources.

The BLM will consult with Indian Tribes on a government-to-government basis in accordance with Executive Order 13175, BLM MS 1780, and other Departmental policies. Tribal concerns, including impacts on Indian trust assets and potential impacts to cultural resources, will be given due consideration. Federal, State, and local agencies, along with Indian Tribal Nations and other stakeholders that may be interested in or affected by the proposed RMP Amendment and PEIS that the BLM is evaluating, are invited to participate in the scoping process and, if eligible, may request or be requested by the BLM to participate in the development of the environmental analysis as a cooperating agency. The BLM intends to hold a series of government-to-government consultation meetings. The BLM will send invites to potentially affected Tribal Nations prior to the meetings. The BLM will provide additional opportunities for government-to-government consultation during the NEPA process.

Before including your address, phone number, email address, or other personal identifying information in your comment, you should be aware that your entire comment—including your personal identifying information—may be made publicly available at any time. While you can ask us in your comment to withhold your personal identifying information from public review, we cannot guarantee that we will be able to do so.

(Authority: 40 CFR 1501.7 and 43 CFR 1610.2)

Jon K. Raby,
State Director.

[FR Doc. 2023-24884 Filed 11-9-23; 8:45 am]

BILLING CODE 4331-21-P